DEPARTMENT OF TRANSPORTATION

Surface Transportation Board

[STB Finance Docket No. 35046]

Duluth, Missabe and Iron Range Railway Company—Amended Trackage Rights Exemption—Duluth, Winnipeg and Pacific Railway Company

Duluth, Winnipeg and Pacific Railway Company (DWP) has agreed to amend the existing overhead trackage rights previously granted to Duluth, Missabe and Iron Range Railway Company (DMIR).¹ The rights extend between Shelton Junction, MN (milepost 70.7 on DWP's Rainy Subdivision), and Nopeming Junction, MN (milepost 10.7 on DWP's Rainy Subdivision), a distance of approximately 60 miles. DMIR states that the amendment will allow a limited expansion of DMIR's rights on tracks over which it already operates.

¹ DMIR initially obtained these trackage rights in Duluth, Missabe and Iron Range Railway Company—Trackage Rights Exemption—Duluth, Winnipeg and Pacific Railway Company, STB Finance Docket No. 34424 (Sub-No. 2) (STB served Apr. 9, 2004).

The purpose of the proposed transaction is to allow for nonexclusive overhead movements, reblocking cars within single trains, or setting out cars requiring servicing over the existing trackage, thus enhancing operational efficiency. The transaction includes all industry spurs, connecting tracks and sidings now existent or hereafter constructed along the subject tracks, and right-of-way for the tracks, signals, interlocking devices and plants, telegraph and telephone lines, and other necessary appurtenances, a distance of approximately 60.0 miles, all within the State of Minnesota.

The earliest this transaction may be consummated is July 14, 2007, the effective date of the exemption (30 days after the exemption was filed).

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed no later than July 6, 2007 (at least 7 days before the exemption becomes effective).

An original and 10 copies of all pleadings, referring to STB Finance Docket No. 35046, must be filed with the Surface Transportation Board, 395 E Street, SW., Washington, DC 20423-0001. In addition, a copy of each pleading must be served on Thomas J. Healey, 17641 S. Ashland Ave., Homewood, IL 60430.

Board decisions and notices are available on our Web site at http://www.stb.dot.gov.

Decided: June 25, 2007.
By the Board, David M. Konschnik, Director, Office of Proceedings.
Vernon A. Williams,
Secretary.

[FR Doc. E7-12607 Filed 6-28-07; 8:45 am]

BILLING CODE 4915-01-P